DEPARTMENT OF AGRICULTURE

Commodity Credit Corporation

Cooperative Conservation Partners Initiative; Wetlands Reserve Enhancement Program

AGENCY: Commodity Credit Corporation and Natural Resources Conservation Service, Department of Agriculture.

ACTION: Notice of request for proposals through the Mississippi River Basin Healthy Watersheds Initiative.

SUMMARY: The Chief of the Natural Resources Conservation Service (NRCS), who is Vice President of the Commodity Credit Corporation (CCC), announces the availability of financial assistance funds in fiscal year (FY) 2010 for up to $50 million in the Cooperative Conservation Partnership Initiative (CCPI) and $25 million in the Wetlands Reserve Enhancement Program (WREP) through the Mississippi River Basin Healthy Watersheds Initiative (MRBI) to eligible participants in 12-digit Hydrologic Unit Code (HUC) subwatershed(s) within the 41 designated focus areas (8-digit HUCs) in the following States: Arkansas, Illinois, Indiana, Iowa, Kentucky, Louisiana, Minnesota, Mississippi, Missouri, Ohio, Tennessee, and Wisconsin. The purpose of this notice is to solicit proposals from potential partners to enter into partnership agreements with NRCS, and to inform agricultural producers and landowners of the future availability of program funds through approved partnership projects.

DATES: Effective Date: The Notice of Request is effective March 2, 2010.

Eligible partners may submit proposals by mail or via courier.

• By mail, proposals must be postmarked by May 3, 2010.

• By courier, proposals must be delivered by May 3, 2010.

ADDRESSES: Written proposals should be submitted to the addresses identified below, with copies to the appropriate NRCS State Conservationist, whose names and addresses are identified as an attachment to this notice. If a project is multi-State in scope, all State Conservationists in the proposed project area must be sent the proposal for review.

• By mail: Gregory K. Johnson, Director, Financial Assistance Programs Division, Department of Agriculture, Natural Resources Conservation Service, 1400 Independence Avenue, SW., Room 5241 South Building, Washington, DC 20250. (Note: Registered or Certified Mail to a Post Office may not be used.)

• By courier: Gregory K. Johnson, Director, Financial Assistance Programs Division, Department of Agriculture, Natural Resources Conservation Service, 1400 Independence Avenue, SW., Room 5241 South Building, Washington, DC 20250, Telephone: (202) 720-1845. All proposals will be accepted between 9 a.m. and 4 p.m., Monday through Friday, except Federal Holidays. Please ask the guard at the entrance to the South Building to call (202) 720-1845.

State Conservationists will review and comment on eligible proposals and will share them with their State Technical Committee for input and feedback. Proposals submitted via fax, email, or after the deadline date or times listed in this notice will not be considered. Proposals submitted via the grants.gov Web site will not be considered.

FOR FURTHER INFORMATION CONTACT: • CCPI projects: Gregory K. Johnson, Director, Financial Assistance Programs Division, Department of Agriculture, Natural Resources Conservation Service, 1400 Independence Avenue, SW., Room 5241 South Building, Washington, DC 20250; Telephone: (202) 720-1845; Fax: (202) 720-4264; or e-mail: MRBI-CCPI@wdc.usda.gov. Additional information regarding CCPI is available at the following NRCS Web page: http://www.nrcs.usda.gov/programs/CCPI/

• WREP projects: Andree DuVarney, Acting Director, Easement Programs Division, Department of Agriculture, Natural Resources Conservation Service, 1400 Independence Avenue, SW., Room 6819 South Building, Washington, DC 20250; Telephone: (202) 720-1854; Fax: (202) 720-9689; or e-mail: MRBI-WREP@wdc.usda.gov. Additional information regarding WREP is available at the following NRCS Web page: http://www.nrcs.usda.gov/programs/WRP

• Monitoring and Evaluation: Mike Hubbs, Director, Ecological Sciences Division, Department of Agriculture, Natural Resources Conservation Service, 1400 Independence Avenue, SW., Room 6158 South Building, Washington, DC 20250; Telephone: (202) 720-5992; Fax: (202) 720-2646; or email: Mike.Hubbs@wdc.usda.gov

• MRBI Information: Information concerning MRBI can be found at the following Web page: http://www.nrcs.usda.gov/programs/mrbi/mrbi.html

• Persons with disabilities who require alternative means for communication (Braille, large print, audio tape, etc.) should contact the USDA Target Center at: (202) 720-2600 (voice and TDD).

SUPPLEMENTARY INFORMATION:

Paperwork Reduction Act

Section 2904 of the Food, Conservation, and Energy Act of 2008 (2008 Act) requires that the implementation of this provision be carried out without regard to the Paperwork Reduction Act, Chapter 35 of title 44, U.S.C. Therefore, the Department of Agriculture (USDA) is not reporting recordkeeping or estimated paperwork burden associated with this amendment.

Background

The Mississippi River Basin is a critical ecosystem within the United States. Its entire land mass, totaling 41 percent of the contiguous United States and 15 percent of North America, drains into the Mississippi River and the Gulf of Mexico. Stretching 2,350 miles from its headwaters at Lake Itasca, Minnesota, to the mouth of the Gulf of Mexico, the Mississippi River carries an average of 436,000 tons of sediment each day. Nutrients, like nitrogen and phosphorus, contribute to both local water quality problems and the hypoxic zone in the Gulf of Mexico.

To help solve these water quality problems, NRCS has developed the MRBI. Through this new initiative, NRCS and its partners will help landowners and operators in selected watersheds in the Mississippi River Basin voluntarily implement conservation systems that avoid, control, and trap nutrient runoff; protect, restore, and enhance wetlands; maintain agricultural productivity; improve wildlife habitat; and achieve other MRBI objectives.

Within the designated focus areas in the Mississippi River Basin, NRCS announces the availability of financial assistance funds in FY 2010 for up $50 million in the CCPI and $25 million in the WREP to eligible participants through approved partnership projects in the following States: Arkansas, Illinois, Indiana, Iowa, Kentucky, Louisiana, Minnesota, Mississippi, Missouri, Ohio, Tennessee, and Wisconsin.

Forty-one focus areas (watersheds) have been selected by NRCS State Conservationists, with input from the State Technical Committees and State water quality agencies, to help improve water quality by reducing nitrogen and phosphorous levels in the Mississippi River Basin. The selected watersheds are listed below. Using CCPI and WREP, NRCS will leverage partner contributions and accelerate conservation assistance to improve water quality; protect, restore, and enhance wetlands; enhance wildlife habitat; and achieve other MRBI objectives. Entities interested in partnering with NRCS in the MRBI must submit separate proposals for CCPI and WREP to the addresses identified in this notice. NRCS will not accept joint CCPI and WREP proposals in FY 2010. Accordingly, an entity is encouraged to submit a proposal for each program. Proposals that integrate CCPI and WREP within a project area will receive higher priority. Entities should note in their applications that proposals have been submitted for both CCPI and WREP, when applicable.

Focus Areas

Eligible partners should submit complete proposals addressing the conservation objectives to be achieved in one or more 12-digit HUC subwatersheds within the designated 8-digit focus area or areas. The designated focus areas listed by 8-digit HUC are below. A complete list of the smaller-scale, 12-digit HUC subwatersheds within the designated 8-digit focus areas can be found at: http://www.nrcs.usda.gov/programs/mrbi/unit_code_lists.html.

Designated Focus Areas for the MRBI FY 2010 (8-Digit HUCs)
State(s) | Watershed | Hydrologic unit code
Arkansas/Missouri | Cache | 08020302
Arkansas | Lake Conway-Point Remove | 11110203
Arkansas | L'Anguille | 08020205
Arkansas/Missouri | Lower St. Francis | 08020203
Illinois | Lower Illinois-Senachwine Lake | 07130001
Illinois | Upper Illinois | 07130005
Illinois | Vermillion (Upper Mississippi River sub-basin) | 07130002
Illinois/Indiana | Vermillion (Upper Ohio River sub-basin) | 05120109
Indiana | Eel | 05120104
Indiana | Upper East Fork White | 05120206
Indiana | Wildcat | 05120107
Indiana/Ohio | Upper Wabash | 05120101
Iowa | Boone | 07100005
Iowa | Maquoketa | 07060006
Iowa | North Raccoon | 07100006
Iowa/Minnesota | Upper Cedar | 07080201
Kentucky/Tennessee | Bayou De Chien-Mayfield | 08010201
Kentucky | Licking | 05100101
Kentucky | Lower Green | 05110005
Louisiana | Mermentau | 08080202
Louisiana/Arkansas | Bayou Macon | 08050002
Louisiana/Arkansas | Boeuf River | 08050001
Minnesota | Middle Minnesota | 07020007
Minnesota | Root | 07040008
Minnesota | Sauk | 07010202
Mississippi | Big Sunflower | 08030207
Mississippi/Louisiana/Arkansas | Deer-Steele | 08030209
Mississippi | Upper Yazoo | 08030206
Missouri/Iowa | Lower Grand | 10280103
Missouri | North Fork Salt | 07110005
Missouri | South Fork Salt | 07110006
Missouri/Arkansas | Little River Ditches | 08020204
Ohio/Indiana | Upper Great Miami | 05080001
Ohio | Upper Scioto | 05060001
Tennessee | Forked Deer | 08010206
Tennessee/Kentucky | Obion | 08010202
Tennessee | South Fork Obion | 08010203
Tennessee/Kentucky | Red River | 05130206
Wisconsin/Illinois | Sugar | 07090004
Wisconsin/Illinois | Upper Rock | 07090001
Wisconsin/Illinois | Pecatonica | 07090003

Submitting Proposals

Potential partners must submit a complete proposal to Gregory K. Johnson, Director, Financial Assistance Programs Division, addressing all questions and items listed in the appropriate subpart of this notice. Potential partners should recognize that the proposal is the only document NRCS will use in the evaluation process. The proposal must include sufficient detail to allow NRCS to understand the partner's priority resource concerns, objectives, and expected outcomes. Incomplete proposals and those that do not meet the requirements set forth in this notice will not be considered, and notification of elimination will be mailed to the applicant. Proposal evaluation will be based upon a competitive process and the criteria established under the appropriate CCPI or WREP proposal requirements. Proposals for CCPI and WREP must be submitted separately.

To further explain how each of these watershed-based initiatives work and specify how to submit proposals for CCPI and WREP, NRCS identifies the policies and processes below.

Part A: MRBI-CCPI

Section 2707 of the 2008 Act established the CCPI by amending section 1243 of the Food Security Act of 1985 (16 U.S.C. 3843). The Request for Proposals contains a number of new terms and words which would normally be included in a definitions section. However, in order to reduce content and improve readability of this notice, definitions may be obtained by contacting the persons referenced in the FOR FURTHER INFORMATION CONTACT section and online at: http://www.nrcs.usda.gov/programs/mrbi/mrbi.html or http://www.nrcs.usda.gov/programs/ccpi.

CCPI is a voluntary initiative that uses the funds, policies, and processes of conservation programs under Subtitle D of Title XII of the Food Security Act, specifically the Environmental Quality Incentives Program (EQIP) (7 CFR part 1466), Wildlife Habitat Incentives Program (WHIP) (7 CFR part 636), and Conservation Stewardship Program (CSP) (7 CFR part 1470) to deliver assistance to owners and operators of agricultural and nonindustrial private forest land. CCPI differs from CSP, EQIP, and WHIP in that the initiative is designed specifically to foster coordination with other partners, and to encourage additional non-Federal investment in natural resource conservation through the use of in-kind services or matching funds in a geographic area, such as a watershed.

Fund Availability

Effective on the date of this notice, NRCS announces the availability of financial assistance funds in the following programs through the MRBI-CCPI in FY 2010:

• $40 million in EQIP

• $5 million in WHIP

• 278,000 acres in CSP (approximately equivalent to $5 million)

Under CCPI, partners coordinate with NRCS to provide financial and technical assistance to eligible landowners and agricultural producers to reduce nutrient loading to achieve water quality objectives and to improve wildlife habitat. Partners are not required to provide financial or technical assistance above that provided through NRCS programs, although partners that provide additional resources will be given higher priority consideration in the competitive selection process.

All Federal funds made available will be paid directly to program participants through CSP and EQIP contracts and WHIP cost-share agreements. No technical assistance funds will be provided to partners through an MRBI-CCPI agreement. However, NRCS State Conservationists may consider the development of a separate funding agreement with qualifying partners for the delivery of technical services.

CCPI Program Objectives

Under CCPI, NRCS enters into multi-year agreements with eligible partner organizations to address conservation priorities related to agriculture and nonindustrial private forest land. Individual landowners and agricultural producers are not eligible entities and may not submit CCPI proposals, nor may they apply for program benefits through this proposal submission process. In order to receive CCPI assistance, landowners and agricultural producers must participate within a project area defined in an approved CCPI agreement and enroll in EQIP, WHIP, or CSP. Landowners and agricultural producers interested in applying must meet the eligibility requirements of the program(s) for which they are applying. Individual landowner and agriculture producer applications will be evaluated and ranked by NRCS to ensure that applications selected for funding are most likely to achieve project objectives.

As part of the partnership agreements, partners may help facilitate the submission of landowner and agricultural producers' program applications, provide additional technical or financial assistance to participating landowners and agricultural producers, including nonindustrial private forest landowners, or provide other resources as defined in the agreement. MRBI-CCPI partnership agreements are to: (1) Address conservation priorities involving agriculture and nonindustrial private forest land within the designated 8-digit HUC focus areas that establish treatment needs and metrics at the 12-digit HUC scale; (2) encourage landowners and agricultural producers to cooperate in meeting applicable Federal, State, and local regulatory requirements related to production; (3) encourage landowners and agricultural producers to cooperate in the installation, monitoring, and maintenance of conservation practices; and (4) promote the development and demonstration of innovative conservation practices, delivery methods, and monitoring/evaluation of the practices. State Conservationists may provide guidance to potential partners related to resource concerns, priorities established by local working groups and State Technical Committees, and approved EQIP and WHIP conservation practices and activities for the focus areas, found at: http://nrcs.usda.gov/programs/mrbi/mrbi.html. State Conservationists may tailor this practice list based on the resource needs in the focus area; however, CSP will not have a modified enhancement list for MRBI-CCPI.

For each of a potential partner's proposed project areas (a single 12-digit watershed or multiple 12-digit watersheds within the designated focus area), NRCS strongly encourages the use of a “systems approach” to achieve conservation goals. The systems approach addresses nutrient runoff from multiple perspectives: “Avoid” the excess application of nutrients onto the field; “Control” the amount nutrient runoff from the fields into the watershed; and “Trap” nutrients before leaving the field. Once a project is funded, producer applications that achieve conservation goals through a “systems approach” will be given higher consideration in the ranking process.

Under CCPI, where flexibility is needed to meet project objectives, the partner may request that program adjustments be allowed provided such policy, procedural, or technical adjustments are within the scope of the applicable programs' statutory and regulatory program authorities. An example of a program adjustment may include expediting the applicable program ranking process in a situation where a partner has identified the landowners and agricultural producers approved to participate in the project. Other examples of adjustments may include applying flexibility in payment rate determinations, or using a single area-wide plan of operations rather individual plans of operations.

Eligible Partners

Eligible partners for CCPI include federally-recognized Indian tribes, State and local units of government, farmer cooperatives, producer associations, institutions of higher education, and other non-governmental organizations with a history of working cooperatively with landowners and agricultural producers to effectively address conservation priorities related to agriculture and nonindustrial private forest land.

CCPI Applications

For MRBI-CCPI, NRCS will enter into EQIP and CSP contracts or WHIP cost-share agreements directly with eligible landowners and agricultural producers, including nonindustrial private forest landowners, who are participating in the project areas (12-digit subwatershed(s) within the designated 8-digit focus areas). Landowners and agricultural producers interested in participating in an approved MRBI-CCPI project may apply for approved MRBI-CCPI funds at their local USDA Service Center after the Chief announces project selection. The designated conservationist will help the landowner or agricultural producer determine which applicable programs (CSP, EQIP, or WHIP) are appropriate to apply for depending on the conservation systems or activities the producer seeks to install or perform to meet the approved partner's project objectives. For enrollment in the MRBI-CCPI, eligible land is defined for each program in the following regulations:

• EQIP: 7 CFR 1466.8(c)

• CSP: 7 CFR 1470.6(b)

• WHIP: 7 CFR 636.4(b)

Individual applications will be evaluated and ranked by NRCS to ensure that producer applications selected for funding are most likely to achieve objectives for the single 12-digit HUC subwatershed or multiple 12-digit HUC subwatersheds within the designated 8-digit focus area. Participants may have multiple contracts through MRBI-CCPI if more than one covered program is needed to accomplish the project objectives.

Proposal Requirements

For consideration of a proposal submitted through MRBI-CCPI in response to this notice, a potential partner must submit five copies (8.5″ × 11″ white paper) of the written proposal and one electronic copy on CD-ROM in MS WORD or PDF. If submitting more than one project proposal (proposals for multiple 8-digit focus areas), a potential partner must submit a separate complete document for each project. The entire project proposal should not exceed 15 pages in length including maps, reference materials, or related reports.

The basic format for the MRBI-CCPI proposal is a narrative written response to the questions and information requested in this notice. There are no forms required or associated with this proposal process.

(1) Proposal Cover and Summary: The first few pages of the proposal must include:

(a) Project title.

(b) Project Director/Manager name, telephone, and email address.

(c) Name of lead partner entity submitting proposal and other collaborating partners.

(d) Mailing address and telephone numbers for lead partner.

(e) Designated 8-digit focus area and 12-digit HUC subwatershed(s), wherein the project lies, including; State(s); County(s); and Congressional District(s). Include a general location map.

(f) Brief description/summary of the project and description of resource issues to be addressed as they relate to MRBI priorities and objectives. Identify the specific natural resource concerns to be addressed.

(g) Description of planning already completed at the field and watershed scales that identifies conservation practices/systems needed to address nutrient concerns.

(h) A list of the approved NRCS FOTG conservation practices, conservation enhancements, and conservation activity plans which will be used to address those resource concerns.

(i) Proposed project start and end dates (not to exceed a period of 5 years).

(j) Total budget for the project including the amount of MRBI-CCPI financial assistance being requested for the project by program by fiscal year.

(2) Project Natural Resource Objectives and Actions: The proposal must include the project objectives and the natural resource concerns that will be addressed.

(a) Identify and provide detail about the natural resource concern(s) to be addressed and how the proposal objectives will address those concerns. Objectives should be specific, measurable, achievable, results-oriented, and include a time for completion.

(b) For each objective, identify the actions to be completed to achieve the objective and to address the identified natural resource concern. Specify which actions are to be addressed through the project using MRBI-CCPI assistance and those being addressed through alternate non-Federal funding sources or other resources provided.

(3) Detailed Proposal Criteria: Information provided in the proposal must include:

(a) A description of the partner(s) history of working with agricultural producers to address resource issues and the conservation objectives to be achieved.

(b) A detailed description of the watershed area including emphasis on treatment and metrics at the 12-digit HUC subwatershed(s) within the designated 8-digit HUC focus area covered by the proposal, conservation priorities in the area, conservation objectives to be achieved, and the expected level of participation by producers. Proposals should state whether a MRBI-CCPI proposal is integrated with a MRBI-WREP or Farm Service Agency Conservation Reserve Program (CRP), Continuous Sign-Up CRP (CCRP), Conservation Reserve Enhancement Program (CREP), or Farmable Wetlands Program (FWP) proposed or existing project, and include the name of any MRBI-WREP, CRP, CCRP, CREP, or FWP proposed project. Higher ranking may be given to integrated proposals.

(c) A description of the partner(s) and the roles, responsibilities, and capabilities of the partner(s). Proposals that include resources from partners other than the lead partner must include a letter or other documentation confirming the commitment of resources.

(d) A description of the project duration, plan of action, and project implementation schedule that details when the potential partner anticipates finishing the project and submitting a final report. Project proposals cannot exceed 5 years from start to completion.

(e) A description of the resources (financial and technical assistance) requested from each of the available NRCS programs (EQIP, WHIP, CSP) and the non-Federal resources provided by the partner(s) that will be leveraged by the Federal contribution. As determined by the State Conservationist, a maximum of 10 percent of total financial assistance funds in a proposal may be designated for edge-of-field monitoring to address critically unmet monitoring needs in the context of an overall monitoring and evaluation plan submitted by the partner. The partner is not required to provide any specific matching of financial or technical resources toward the project; however, proposals that include or offer non-Federal resources will be given higher priority through the evaluation process. Partners need to state clearly how they intend to leverage Federal funds along with partner resources. The funding and time contribution by agricultural producers and non-industrial forest owners to implement agreed-to conservation systems in program contracts may not be considered any part of a match from the potential partner for purposes of MRBI-CCPI.

(f) A description of the plan for monitoring, evaluating, and reporting on progress made toward achieving the objectives of the agreement. The MRBI is adopting a three-tiered monitoring and evaluation approach designed to assess environmental outcomes at the field, 12-digit, and 8-digit watershed scales. Higher priority will be given to projects that adopt this three-tiered approach where the partner can provide resources or services. Higher priority will also be given to projects that utilize environmental indicators to monitor water quality and evaluate effects of conservation practices and activities implemented through the project on a field or edge-of-field scale as well as at selected downstream monitoring points. A framework for watershed and edge-of-field monitoring, including environmental indicators, can be found at: http://www.nrcs.usda.gov/programs/mrbi/mrbi.html.

(g) Potential criteria to be used by NRCS to prioritize and rank MRBI-CCPI producer applications in the project area. Additional information regarding the process NRCS uses to evaluate and rank individual producer applications is found in each of the authorized program regulations. The potential partner should include specific producer application ranking criteria in the proposal, so that NRCS can evaluate producer applications based upon the environmental objectives of the MRBI-CCPI project. Additional guidance and examples of acceptable ranking criteria may be obtained from the State Conservationist where the project will be located.

(h) An estimate of the percentage of producers, including nonindustrial private forest landowners, in the project area that are expected to participate in the project along with an estimate of the total number of producers located in the project area. Producer participation is a requirement for delivery of MRBI-CCPI program benefits. A statement on how the partner will encourage participation to increase the likelihood of project success.

(i) A statement describing participation by beginning farmers or ranchers, socially disadvantaged farmers or ranchers, limited resource farmers or ranchers, and Indian tribes.

(j) A listing and description of the conservation practices, conservation activity plans, conservation enhancements, and partner activities to be implemented during the project timeframe and the general sequence of project implementation. Other activities to address are those technical assistance efforts undertaken by the partner and those that the partner requests NRCS to implement using eligible approved MRBI-CCPI conservation practices, conservation enhancements, and project financial assistance funding. In this section, list all the approved MRBI-CCPI conservation practices and enhancements the partner wishes NRCS to offer to producers through the MRBI-CCPI project. A national list of the approved MRBI-CCPI core and supporting practices can be accessed from http://nrcs.usda.gov/programs/mrbi/mrbi.html; each State may have a slightly modified list. Information about these approved practices can be found in the Field Office Technical Guide at: http://www.nrcs.usda.gov/technical/efotg/ or http://www.nrcs.usda.gov/technical/standards/. For each conservation practice, estimate the practice extent (feet, acres, number, etc.) the partner expects producers to implement each fiscal year during the life of the project and the amount of financial assistance requested to support implementation of each practice through producer contracts. Information on eligible conservation enhancements can be found at the CSP Web site at: http://www.nrcs.usda.gov/programs/new_csp/csp.html. Indicate whether the project will address regulatory compliance and any other outcomes that the partner expects to complete during the project period. Describe any activities that are innovative or include outcome-based performance measures implemented by the partner.

(k) A description of the amount of funds needed annually for producer contracts or agreements by eligible program (EQIP, WHIP, and CSP). This section of the proposal should include the total amount of financial assistance funds requested for each fiscal year of the project (for MRBI-CCPI multi-State projects provide the funds/acres by State) to be made available for producer contracts.

(l) A description of any requested policy, procedure, and technical adjustments, by program, with explanation of why the adjustment is needed in order to achieve the objectives of the project.

Ranking Considerations

NRCS will evaluate proposals using a competitive process and will give a higher priority to proposals that:

• Demonstrate the partner's history of working cooperatively with landowners;

• Provide for outreach to, and participation of, beginning farmers or ranchers, socially disadvantaged farmers or ranchers, limited resource farmers or ranchers, and Indian tribes within the area covered by the agreement;

• Facilitate the submission of landowner applications;

• Integrate both WREP and CCPI within a project area;

• Significantly leverage non-Federal financial and technical resources;

• Coordinate with other local, State, or Federal efforts, including with Farm Service Agency program efforts (e.g., CRP, CCRP, CREP, FWP) and the Environmental Protection Agency (EPA) funded watershed efforts (e.g. 319 projects);

• Provide for matching financial or technical assistance funds to assist participants with the implementation of their EQIP and CSP contracts and WHIP cost-share agreements;

• Assist the participants in meeting local, State, and Federal regulatory requirements;

• Demonstrate the partner's financial commitment to provide for water quality monitoring and evaluation of conservation practices, enhancements, and activities;

• Have a high potential to achieve water quality objectives through phosphorous (P) or nitrogen (N) nutrient reduction;

• Have a high potential to improve wildlife habitat;

• For WHIP and EQIP applications, include multiple core and supporting practices from each practice category (avoiding, controlling, and trapping) from the State-approved MRBI-CCPI practice list;

• Provide innovation in approved conservation practices, conservation methods, and delivery including outcome-based performance measures and methods;

• Have a high potential to maintain agricultural productivity;

• Provide evidence of a watershed planning process that:

○ Identifies nutrients (N or P) causing water quality problems and identifies their sources enabling implementation to be prioritized,

○ Identifies quantifiable project goals for field-scale nutrient management and watershed-scale nutrient load reduction,

○ Identifies conservation practices and systems to be utilized to accomplish project goals/objectives,

○ Identifies technical assistance and financial assistance needed,

○ Includes an information and education component,

○ Lists measurable interim milestones that relate to project goals, and

○ Presents criteria for evaluation and adaptive management;

• Convert land from cropping systems to permanent vegetative practices when supported by landowners and agricultural producers as part of overall agricultural operation;

• Adopt a three-tiered monitoring approach whereby the partner provides resources or services to conduct water quality monitoring activities and to evaluate the effects of conservation practices and activities implemented through the project on a field or edge-of-field scale, as well as at selected downstream monitoring points;

• Complete the application of the conservation practices, systems, or activities on all of the covered program contracts or cost-share agreements in less than 5 years;

• Have a high percentage of producers involved and working agricultural or nonindustrial private forest land included in the area covered by the agreement; and

• Deliver high percentages of applied conservation to address water quality, water conservation, or State, regional, or national conservation initiatives.

Part B: MRBI-WREP

Section 2206 of the 2008 Act establishes the WREP by amending section 1237A(h) of the Food Security Act of 1985 (16 U.S.C. 3837a(h)). Under WREP, NRCS enters into agreements with eligible partners to help enhance conservation outcomes on wetlands and adjacent lands. The purpose of WREP as part of MRBI is to target and leverage resources to protect, restore, and enhance wetlands; improve wildlife habitat; and reduce nutrient loading to achieve water quality objectives through agreements with eligible partners. Eligible partners include States (including a political subdivision or agency of a State), nongovernment organizations, and Indian tribes.

Fund Availability

Effective on the date of this notice, the CCC announces the availability of $25 million in financial assistance funds for WREP through the MRBI in FY 2010 to eligible landowners in the designated focus areas (8-digit HUCs).

WREP is administered under the Wetlands Reserve Program (WRP) and is a voluntary program designed to foster coordination with partners and to encourage non-Federal investment in natural resource conservation through the use of matching funds and in-kind services. WREP partners are required to contribute a financial match of at least 5 percent of the acquisition or restoration costs toward the project. Proposals which include resources provided by additional partners will be given higher priority consideration in the selection process. Contributions provided by the partners can be in the form of technical and financial assistance for the protection, restoration, and enhancement of the wetland. Partner contributions can also be used for management and monitoring activities. Additional contributions beyond the required financial match can be in-kind services or cash.

Eligible Partners

Under WREP, NRCS enters into multi-year agreements with eligible partners. Eligible partners for WREP include State and local units of government, Indian tribes, or nongovernmental organizations.

Eligible partners should submit complete proposals addressing the conservation objectives to be achieved within 12-digit HUC subwatershed(s) within designated 8-digit HUC focus areas. Proposals that integrate wetland protection, restoration, and enhancement activities within a proposed MRBI-CCPI project area will be given higher priority consideration in the selection process. Wetland restoration and enhancement actions will be designed to maximize wildlife habitat values and water quality according to the WRP regulation, 7 CFR part 1467, and NRCS FOTG standards and specifications. Proposals must conform to the WRP guidelines for restoration and management of lands subject to a WRP easement or contract.

Landowner Applications

For WREP, once a project area has been approved and announced, eligible landowners may apply for WRP through their local NRCS office. The land eligibility criteria for WREP are the same as for WRP and are listed in 7 CFR part 1467.4. NRCS and the partner will assist landowners in determining whether the application is appropriate for WREP depending on the wetland protection, restoration, and enhancement activities that the applicant seeks to install or perform. In FY 2010, NRCS will make WREP funds available to eligible landowners to enroll land under a permanent easement; a 30-year easement; or on acreage owned by Indian tribes, a 30-year contract.

WREP financial and technical assistance is delivered to eligible landowners in approved project areas through easement acquisition, conservation program contracts, cooperative agreements, contribution agreements, or Federal contracts. Restoration may be achieved through payments to other parties.

Proposal Requirements

For consideration of a proposal submitted through MRBI-WREP, a potential partner must submit five copies (8.5″ x 11″ white paper) of the written proposal and one electronic copy on CD-ROM in MS WORD or PDF. If submitting more than one project proposal (proposals for multiple 8-digit focus areas), a potential partner must submit a separate complete document for each project. The entire project proposal should not exceed 15 pages in length including maps, reference materials, or related reports.

The basic format for the WREP proposal is a narrative written response to the questions and information requested in this notice. There are no forms required or associated with the WREP proposal process.

(1) Proposal Cover and Summary: The first few pages of the proposal must include:

(a) Project title.

(b) Project Director/Manager name, telephone, and e-mail address.

(c) Name of lead partner submitting proposal and other collaborating partners.

(d) Mailing address and telephone numbers for lead partner.

(e) Designated 8-digit focus area and 12-digit HUC subwatershed(s), wherein the project lies, including; State(s); County(s); and Congressional District(s). Include a general location map.

(f) Short general description/summary of project.

(g) Potential acres to be enrolled in the project area.

(h) Proposed project start and end dates (not to exceed a period of 5 years).

(i) Total budget for the project including the amount of WREP financial assistance being requested for the project.

(2) Project Natural Resource Objectives and Actions: The proposal must address wetland restoration, including water quality concerns, in 12-digit subwatershed(s), located within the 8-digit focus areas, and the objectives of the project to address those concerns.

(a) Identify and provide detail about the natural resource concern(s) to be addressed and how the proposal's objectives will address those concerns. Objectives should be specific, measurable, achievable, results-oriented, and include a timeframe for completion.

(b) For each objective, identify the actions to be completed to achieve that objective and address the identified natural resource concern. Specify which actions are to be addressed through this project using WREP assistance, and which are being addressed through alternate non-Federal funding sources or other resources provided.

(c) Identify the total acres that require wetland protection, restoration, and enhancement.

(3) Detailed Proposal Criteria: Information provided in the proposal must include:

(a) A description of the partner(s) history of working with landowners to address natural resource issues.

(b) A detailed description of the 12-digit subwatershed(s) within the designated 8-digit focus area covered by the proposal, including a specific watershed map which indicates the project location. Proposals should state whether an MRBI-WREP proposal is integrated with an MRBI-CCPI proposed project, and include the name of the MRBI-CCPI proposed project.

(c) A description of the partner(s) and the roles, responsibilities, and capabilities of the partner(s). Proposals which include resources from partners other than the lead partner must include a letter or other documentation confirming the commitment of resources.

(d) A description of the project duration, plan of action, and project implementation schedule. Project proposals cannot exceed 5 years.

(e) A description of the financial assistance resources that are requested through the MRBI-WREP, and the non-Federal resources provided by the partner(s) that will be leveraged by the Federal contribution. The partner is required to contribute a financial match of at least 5 percent of the acquisition or restoration costs toward the project. Proposals that include additional non-Federal resources will be given higher priority consideration in the selection process. The partner needs to clearly state how they intend to leverage Federal funds along with partner resources. The funding and time contribution by landowners to implement agreed-to wetland restoration and enhancement practices may not be considered any part of a match from the potential partner for purposes of WREP.

(f) An estimate of the percentage of potential landowners in the project area that may participate in the project along with an estimate of the total number of potential landowners located in the project area. A statement on how the partner will encourage participation to increase the likelihood of project success.

(g) A statement describing participation by beginning farmers and ranchers, socially disadvantaged farmers or ranchers, limited resource farmers or ranchers, and Indian tribes.

(h) A description of the wetland protection, restoration, and enhancement activities to be implemented during the project timeframe, and the general sequence of implementation of the project. Activities may include those efforts undertaken by the partner and those that the partner requests NRCS to address through financial support.

(i) The amount of funds needed annually for easement acquisition and wetland restoration and enhancement activities.

(j) A description of how the partner will provide outreach, especially to beginning farmers or ranchers, socially disadvantaged farmers and ranchers, limited resource farmers or ranchers, and Indian tribes.

Ranking Considerations

The appropriate State Conservationist will evaluate proposals using a competitive process and forward recommended proposals to the Chief. The Chief will give a higher priority to proposals that:

• Demonstrate the partner's history of working cooperatively with landowners;

• Provide for outreach to, and participation of, beginning farmers or ranchers, socially disadvantaged farmers or ranchers, limited resource farmers or ranchers, and Indian tribes within the area to be covered by the agreement;

• Facilitate the submission of landowner applications;

• Significantly leverage non-Federal financial and technical resources;

• Coordinate with other local, State, tribal, or Federal efforts, including with Farm Service Agency proposed or existing program efforts (e.g. CRP, Continuous Sign-Up CRP, CREP, FWP, and EPA-funded watershed efforts (e.g. 319 projects);

• Assist the participants in meeting local, State, tribal, and Federal regulatory requirements;

• Provide for monitoring and evaluation of the effectiveness of the restoration activities on water quality;

• Have a high potential to achieve water quality objectives through phosphorous (P) or nitrogen (N) nutrient reduction;

• Have a high potential to maximize habitat for migratory birds and other wetland-dependent wildlife;

• Provide innovation in wetland protection, restoration, and enhancement methods and outcome-based performance measures and methods;

• Provide evidence that wetland restoration and enhancement activities will be completed within 2 years of closing on the easement;

• Provide for matching financial or technical assistance funds to assist landowners with the implementation of the Wetlands Reserve Plan of Operations and associated contracts; and

• Integrate wetland protection, restoration, and enhancement activities within a proposed MRBI-CCPI project area.

Review of MRBI-CCPI and MRBI-WREP Proposals

The State Conservationist(s) will review the proposals to address:

• Potential cooperation or duplication of efforts with other projects or existing programs;

• Adherence to, and consistency with, program regulation including requirements related to land and producer eligibility and use of approved NRCS resource concerns and conservation practices, conservation enhancements, and other program requirements;

• Expected benefits for project implementation in their State(s);

• Other issues or concerns the State Conservationist is aware of that should be considered by the Chief; and

• A general recommendation for support or denial of project approval.

Prior to submission of the proposal, potential partners are strongly encouraged to consult with the appropriate State Conservationist(s) during proposal development to obtain guidance as to appropriate resource concerns to address conservation practices, wetland restoration, enhancement activities needed, and other details of the project proposal.

All proposals submitted become the property of NRCS for use in the administration of the program, may be filed or disposed of by the agency, and will not be returned to the potential partner. Once proposals have been submitted to the agency for review and ranking, there will be no further opportunity to change or re-submit the proposal document.

Acknowledgement of Submission and Notifications

Partners whose proposals have been selected will receive a letter of official notification from the Chief. The Chief will make the final selection for all projects based on the ranking criteria listed above. Upon notification of selection, the partner should contact the NRCS State Conservationist listed in the letter to develop the required partnership agreement and other project implementation requirements. Partner submissions of proposals not selected will be notified by mail.

Withdrawal of Proposals

Partner proposals may be withdrawn by written notice to the Chief or State Conservationist at any time prior to selection.

Partnership Agreements

NRCS will enter a partnership agreement with a selected partner who has an approved project as the mechanism for participation in MRBI-CCPI or MRBI-WREP. At a minimum, the partnership agreement will address:

• The role of the partner;

• The role of NRCS;

• The responsibilities of the partner relating to water quality monitoring and evaluation if included as part of the proposal. NRCS reserves the right to negotiate with the partners on refinements to the monitoring and evaluation plan to address MRBI objectives;

• The format and frequency of reports (semi-annual, annual, and final) that are required as a condition of the agreement;

• Plan of work and budget to identify other funding sources (if applicable) for financial or technical assistance;

• The specified project schedule; and

• Other requirements deemed necessary by NRCS to further the purposes of the MRBI-CCPI or MRBI-WREP project.

Once a project is selected, NRCS will evaluate a project's progress throughout the project lifecycle. NRCS will enter into a project agreement for the necessary funds agreed to for FY 2010. In proposed projects years beyond FY 2010, NRCS may obligate additional funds without further competition based on an assessment of the project's effectiveness in achieving MRBI objectives and the availability of funds.

Waiver Authority

To assist in the implementation of WREP or CCPI projects, the Chief may waive the applicability of the Adjusted Gross Income Limitation on a case-by-case basis in accordance with policy and processes promulgated in 7 CFR part 1400. Such waiver requests must be submitted in writing from the program applicant, addressed to the Chief, and submitted through the local NRCS district conservationist.

Signed this 23rd day of February 2010, in Washington, DC.
Dave White,
Vice President, Commodity Credit Corporation and Chief, Natural Resources Conservation Service.

Attachment

Natural Resources Conservation Service State Conservationists—MRBI States
State | Name | Address | Phone | E-mail address
Arkansas | Michael E. Sullivan | Federal Building, Room 3416, 700 West Capitol Avenue, Little Rock, Arkansas 72201-3228 | (501) 301-3100 | michael.sullivan@ar.usda.gov.
Illinois | William J. Gradle | 2118 W. Park Court, Champaign, Illinois 61821 | (217) 353-6601 | bill.gradle@il.usda.gov.
Indiana | Jane E. Hardisty | 6013 Lakeside Boulevard, Indianapolis, Indiana 46278-2933 | (317) 290-3200 | jane.hardisty@inn.usda.gov.
Iowa | Richard Sims | 693 Federal Building, 210 Walnut Street, Suite 693, Des Moines, Iowa 50309-2180 | (515) 284-6655 | richard.sims@ia.usda.gov.
Kentucky | Tom Perrin | 771 Corporate Drive, Suite 110, Lexington, Kentucky 40503-5479 | (859) 224-7350 | tom.perrin@ky.usda.gov.
Louisiana | Kevin D. Norton | 3737 Government Street, Alexandria, Louisiana 71302 | (318) 473-7751 | kevin.norton@la.usda.gov.
Minnesota | Jennifer Heglund | 375 Jackson Street, Suite 600, St. Paul, Minnesota 55101-1854 | (651) 602-7900 | jennifer.heglund@mn.usda.gov.
Mississippi | Homer Wilkes | Suite 1321, Federal Building, 100 West Capitol Street, Jackson, Mississippi 39269-1399 | (601) 965-5205 | homer.wilkes@ms.usda.gov.
Missouri | J.R. Flores | Parkade Center, Suite 250, 601 Business Loop 70 West, Columbia, Missouri 65203-2546 | (573) 876-0901 | Jr.flores@mo.usda.gov.
Ohio | Terry J. Cosby | 200 North High Street, Room 522, Columbus, Ohio 43215-2478 | (614) 255-2472 | terry.cosby@oh.usda.gov.
Tennessee | Kevin Brown | 675 U.S. Courthouse, 801 Broadway, Nashville, Tennessee 37203-3878 | (615) 277-2531 | kevin.brown@tn.usda.gov.
Wisconsin | Patricia Leavenworth | 8030 Excelsior Drive, Suite 200, Madison, Wisconsin 53717 | (608) 662-4422 | pat.leavenworth@wi.usda.gov.

[FR Doc. 2010-4275 Filed 3-1-10; 8:45 am]

BILLING CODE 3410-16-P